DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2014, there were five applications approved. This notice also includes information on two applications, one approved in December 2012 and the other approved in August 2013, inadvertently left off the December 2012 and August 2013 notices, respectively. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Rochester, Minnesota.

Kevin Application Number: 13-06-C-00-RST.

Application Type: Impose and use a PFC.

PFC Level: $4.50.

Total PFC Revenue Approved In This Decision: $1,698,590.

Earliest Charge Effective Date: October 1, 2014.

Estimated Charge Expiration Date: January 1, 2017.

Classes of Air Carriers Not Required To Collect PFC's: (1) Nonscheduled/on demand air carriers filing FAA Form 1800-31; (2) commuter/small certificated air carriers filing DOT Form T-100; and (3) foreign air carriers filing DOT Form T-100 that do not meet the threshold requirements for passenger boardings.

Determination: Disapproved. The FAA found that the public agency did not provide the information required by regulation to the air carriers during the air carrier consultation process.

Brief Description of Projects Approved for Collection and Use: Equipment—vacuum truck upgrades.

Terminal apron rehabilitation.

Taxiway rehabilitation.

Runway intersection rehabilitation.

Equipment—loader.

Equipment—plow.

Taxiway lighting—construction.

Taxiway lighting—engineering.

Terminal roof rehabilitation 2010.

Terminal roof rehabilitation 2008.

Equipment—vehicle with on-board friction meter.

Pavement construction—entrance road 2008.

Equipment—blower.

Equipment—plow.

Terminal loading bridge construction.

Airport geographic information system/FAA survey.

Master plan phase II.

Precision approach path indicator lights—construction.

PFC consultation.

Decision Date: December 20, 2012.

FOR FURTHER INFORMATION CONTACT: Sandy Depottey, Minneapolis Airports District Office, (612) 253-4642.

Public Agency: County of Kenton and Kenton County Airport Board, Cincinnati, Ohio.

Application Number: 13-14-C-00-CVG.

Application Type: Impose and use a PFC.

PFC Level: $4.50.

Total PFC Revenue Approved In This Decision: $64,465,657.

Earliest Charge Effective Date: October 1, 2014.

Estimated Charge Expiration Date: March 1, 2020.

Classes of Air Carriers Not Required To Collect PFC'S: (1) Part 121 supplemental operators (commuters or small certificated air carriers) filing DOT Form T-100 that enplane less than 1,500 passengers per year at Cincinnati/Northern Kentucky International Airport (CVG); and (2) Part 135 air taxi commercial operators filing FAA Form 1800-31 and operating at CVG.

Determination: Approved. Based on information contained in the public agency's application, the FAA has determined that each approved class accounts for less than 1 percent of the total annual enplanements at CVG.

Brief Description of Projects Approved for Collection and Use At A $4.50 PFC Level: Taxiway M reconstruction/rehabilitation (taxiway D to taxiway M2).

Taxiways T and S rehabilitation.

Brief Description of Projects Approved for Collection and Use At A $3.00 PFC Level: East service road rehabilitation.

Equipment purchases—snow removal trucks.

Equipment purchase—crash truck.

PFC program administration costs—preparation of PFC application.

PFC program administrative costs 2013-2017.

Brief Description of Project Partially Approved for Collection and Use At A $4.50 PFC Level: Runway 18L/36R rehabilitation.

Determination: The approved amount is less than was requested due to lower bid costs and additional funding from other sources.

Brief Description of Project Partially Approved for Collection and Use At A $4.00 PFC Level: Terminal 3 consolidation/reactivation of concourse A.

Determination: The FAA determination that portions of the proposed project were not eligible for PFC funding.

Brief Description of Projects Partially Approved for Collection and Use At A $3.00 PFC Level: Roof replacement—field maintenance (snow and ice control equipment) building.

Determination: The FAA determined that only a portion of the building was needed to store eligible equipment and thus limited the PFC approval to only that portion of the building.

Decision Date: August 16, 2013.

FOR FURTHER INFORMATION CONTACT: Cynthia Wills, Memphis Airports District Office, (901) 322-8190.

Public Agency: City of Midland, Texas.

Application Number: 14-07-C-00-MAF.

Application Type: Impose and use a PFC.

PFC Level: $4.50.

Total PFC Revenue Approved In This Decision: $2,434,939.

Earliest Charge Effective Date: April 1, 2017.

Estimated Charge Expiration Date: May 1, 2018.

Class of Air Carriers Not Required to Collect PFC'S: Part 135 air taxi/commercial operators nonscheduled/on demand carriers filing FAA Form 1800-31.

Determination: Approved. Based on information contained in the public agency's application, the FAA has determined that the approved class accounts for less than 1 percent of the total annual enplanements at Midland International Airport.

Brief Description of Projects Approved for Collection An Use: Airfield security access control software and cable upgrade.

Aircraft ramp lighting system improvements.

Construct runway 16R run-up apron.

Northwest taxilane extension phase II.

Decision Date: March 11, 2014.

FOR FURTHER INFORMATION CONTACT: Marcelino Sanchez, Texas Airports Development Office, (817) 222-5652.

Public Agency: International Falls/Koochiching County Airport Commission, International Falls, Minnesota.

Application Number: 14-05-C-00-INL.

Application Type: Impose and use a PFC.

PFC Level: $4.50.

Total PFC Revenue Approved In This Decision: $835,639.

Earliest Charge Effective Date: June 1, 2015.

Estimated Charge Expiration Date: March 1, 2033.

Class of Air Carriers Not Required to Collect PFC'S: None.

Brief Description of Projects Approved for Collection And Use: PFC administration.

Terminal design, construction, and administration.

Terminal baggage claim area and equipment.

Decision Date: March 13, 2014.

FOR FURTHER INFORMATION CONTACT: Nancy Nistler, Minneapolis Airports District Office, (612) 253-4638.

Public Agency: Louisville Regional Airport Authority, Louisville, Kentucky.

Application Number: 14-08-C-00-SDF.

Application Type: Impose and use a PFC.

PFC Level: $4.50.

Total PFC Revenue Approved In This Decision: $5,203,144.

Earliest Charge Effective Date: April 1, 2015.

Estimated Charge Expiration Date: January 1, 2016.

Class Of Air Carriers Not Required to Collect PFC'S: Air taxi/commercial operators filing FAA Form 180-31 with operate at Louisville International Airport (SDF).

Determination: Approved. Based on information contained in the public agency's application, the FAA has determined that the approved class accounts for less than 1 percent of the total annual enplanements at SDF.

Brief Description of Projects Approved for Collection and Use At A $4.50 PFC Level: Sound insulation program—phase 3B through phase 7.

Jet bridge acquisition, rehabilitation and installation of pre-conditioned air units.

Brief Description of Project Approved for Collection and Use At A $3.00 PFC Level: PFC implementation and administration costs.

Brief Description of Withdrawn Project: Runway safety area 11-29.

Date of Withdrawal: December 11, 2013.

Decision Date: March 14, 2014.

FOR FURTHER INFORMATION CONTACT: Cynthia Wills, Memphis Airports District Office, (901) 322-8190.

Public Agency: County of Emmet, Pellston, Michigan.

Application Number: 14-13-C-00-PLN.

Application Type: Impose and use a PFC.

PFC Level: $4.50.

Total PFC Revenue Approved In This Decision: $563,363.

Earliest Charge Effective Date: May 1, 2018.

Estimated Charge Expiration Date: July 1, 2024.

Class of Air Carriers Not Required To Collect PFC'S: Air taxi commercial operators filing FAA Form 1800-31 that are operating at Pellston Regional Airport of Emmet County (PLN).

Determination: Approved. Based on information contained in the public agency's application, the FAA has determined that the approved class accounts for less than 1 percent of the total annual enplanements at PLN.

Brief Description of Projects Approved For Collection An Use: Construction of parking lot access road.

Design of new boarding bridges.

Installation of new boarding bridges.

Runway pavement markings and crack sealing.

Taxiway pavement markings and crack sealing.

Apron pavement markings and crack sealing.

PFC administration expenses.

Construction of hangar access road.

Replacement of airfield guidance signage.

Replacement of runway end identifier lights on runway 5/23.

Decision Date: March 17, 2014.

FOR FURTHER INFORMATION CONTACT: Irene Porter, Detroit Airports District Office, (734) 229-2915.

Public Agency: City of Manhattan, Kansas.

Application Number: 14-04-C-00-MHK.

Application Type: Impose and use a PFC.

PFC Level: $4.50.

Total PFC Revenue Approved In This Decision: $2,972,696.

Earliest Charge Effective Date: May 1, 2014.

Estimated Charge Expiration Date: May 1, 2025.

Class of Air Carriers Not Required to Collect PFC's: Non-scheduled/on-demand air taxi operators filing FAA Form 1800-31.

Determination: Approved. Based on information contained in the public agency's application, the FAA has determined that the approved class accounts for less than 1 percent of the total annual enplanements at Manhattan Regional Airport.

Brief Description of Projects Approved for Collection An Use: Terminal expansion (design).

Terminal expansion (phase 1—construction).

Install wildlife fence.

Decision Date: March 25, 2014.

FOR FURTHER INFORMATION CONTACT: Sheila Bridges, Central Region Airports Division, (816) 329-2638.

Amendments to PFC Approvals
Amendment No. city, state | Amendment approved date | Original approved net PFC revenue | Amended approved net PFC revenue | Original estimated charge exp. date | Amended estimated charge exp. date
07-06-C-02-LIT Little Rock, AR | 02/25/14 | $34,723,804 | $38,428,622 | 11/01/11 | 11/01/11
04-01-C-02-HNL Honolulu, HI | 02/25/14 | 34,802,226 | 37,307,986 | 02/01/07 | 02/01/07
04-01-C-02-OGG Kahului, HI | 02/25/14 | 6,629,349 | 7,143,275 | 02/01/07 | 02/01/07
04-01-C-02-KOA Kailua/Kona, HI | 02/25/14 | 2,216,888 | 2,388,749 | 02/01/07 | 02/01/07
04-01-C-02-LIH Lihue, HI | 02/25/14 | 1,489,763 | 1,603,219 | 02/01/07 | 02/01/07
11-04-C-01-PGV Greenville, NC | 03/11/14 | 9,589,497 | 8,731,247 | 10/01/38 | 01/01/37
09-05-C-02-HPN White Plains, NY | 03/12/14 | 10,000,000 | 1,600,000 | 10/01/11 | 06/01/11
11-06-C-01-HPN White Plains, NY | 03/12/14 | 8,000,000 | 5,200,000 | 04/01/13 | 04/01/13
11-07-C-01-TXK Texarkana, AR | 03/25/14 | 850,066 | 18,671 | 09/01/18 | 05/01/14
* 04-02-C-01-PAH Paducah, KY | 03/28/14 | 875,189 | 875,189 | 01/01/17 | 02/01/16
Notes: The amendment denoted by an asterisk (*) includes a change to the PFC level charged from $3.00 per enplaned passenger to $4.50 per enplaned passenger. For Paducah, KY, this change is effective on May 1, 2014.

Issued in Washington, DC, on May 23, 2014.
Joe Hebert,
Manager, Financial Analysis and Passenger Facility Charge Branch.

[FR Doc. 2014-12679 Filed 5-30-14; 8:45 am]

BILLING CODE 4910-13-P